ENVIRONMENTAL PROTECTION AGENCY

[FRL-8046-9]

Adequacy of Wisconsin Municipal Solid Waste Landfill Program

AGENCY: Environmental Protection Agency (EPA).

ACTION: Notice of final determination of adequacy.

SUMMARY: The U.S. Environmental Protection Agency Region 5 is approving a modification to Wisconsin's approved municipal solid waste landfill (MSWLF) permit program. The modification allows the State to issue research, development and demonstration (RD&D) permits to owners and operators of MSWLF units in accordance with its state law.

DATES: This final determination is effective March 21, 2006.

FOR FURTHER INFORMATION CONTACT: Susan Mooney, mailcode DW-8J, Waste Management Branch, U.S. EPA Region 5, 77 West Jackson Boulevard, Chicago, Illinois 60604, telephone (312) 886-3585, mooney.susan@epa.gov.

SUPPLEMENTARY INFORMATION:

A. Background

On March 22, 2004, EPA issued a final rule amending the municipal solid waste landfill criteria in 40 CFR part 258 to allow for research, development and demonstration (RD&D) permits (69 FR 13242). This rule allows for variances from specified criteria for a limited period of time, to be implemented through state-issued RD&D permits. RD&D permits are only available in states with approved MSWLF permit programs which have been modified to incorporate RD&D permit authority. While States are not required to seek approval for this new provision, those States that are interested in providing RD&D permits to owners and operators of MSWLFs must seek approval from EPA before issuing such permits. Approval procedures for new provisions of 40 CFR part 258 are outlined in 40 CFR 239.12.

Wisconsin's MSWLF permit program was approved on November 20, 1996 (61 FR 59096). On November 8, 2005, Wisconsin applied for approval of its RD&D permit provisions. On January 20, 2006, EPA published a proposed determination of adequacy (71 FR 3293) of Wisconsin's RD&D permit requirements. The notice provided a public comment period that ended on February 21, 2006. EPA received no comments on the proposed adequacy determination.

B. Decision

After a thorough review, EPA Region 5 has determined that Wisconsin's RD&D permit provisions as defined under NR 514.10 are adequate to ensure compliance with the Federal criteria as defined at 40 CFR 258.4.

Authority: This action is issued under the authority of section 2002, 4005 and 4010(c) of the Solid Waste Disposal Act, as amended, 42 U.S.C. 6912, 6945 and 6949(a).

Dated: March 9, 2006.
Bharat Mathur,
Deputy Regional Administrator, Region 5.

[FR Doc. E6-4064 Filed 3-20-06; 8:45 am]

BILLING CODE 6560-50-P